DEPARTMENT OF TRANSPORTATION

Federal Aviation Administration

14 CFR Part 39

[Docket No. FAA-2010-0710; Directorate Identifier 2010-NE-26-AD; Amendment 39-16892; AD 2010-19-06R1]

RIN 2120-AA64

Airworthiness Directives; Turbomeca Turboshaft Engines

AGENCY: Federal Aviation Administration (FAA), DOT.

ACTION: Final rule; correction.

SUMMARY: The FAA is correcting an airworthiness directive (AD) that was published in the Federal Register. That AD applies to Turbomeca Arriel 1 series turboshaft engines. The AD number is incorrect in the preamble and in the Regulatory text. This document corrects those errors. In all other respects, the original document remains the same.

DATES: This final rule revision is effective January 17, 2012.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: (800) 647-5527) is Document Management Facility, U.S. Department of Transportation, Docket Operations, M-30, West Building Ground Floor, Room W12-140, 1200 New Jersey Avenue SE., Washington, DC 20590.

FOR FURTHER INFORMATION CONTACT: Frederick Zink, Aerospace Engineer, Engine Certification Office, FAA, 12 New England Executive Park, Burlington, MA; phone: (781) 238-7779; fax: (781) 238-7199; email: frederick.zink@faa.gov.

SUPPLEMENTARY INFORMATION: Airworthiness Directive 2011-26-02, Amendment 39-16892 (76 FR 77378, December 13, 2011), currently requires removing from service certain gas generator second stage turbine discs, part number (P/N) 0 292 25 040 0, that are not marked with “CFR” before the discs exceed 4,000 cycles-in-service (CIS) since new. That AD also requires removing from service certain gas generator second stage turbine discs, P/N 0 292 25 040 0, that are marked with “CFR” before the discs exceed 6,500 CIS since new.

As published, the AD number 2011-26-02 in the preamble of the AD and under § 39.13 [Amended], is incorrect.

No other part of the preamble or regulatory information has been changed; therefore, only the changed portion of the final rule is being published in the Federal Register.

The effective date of this AD revision remains January 17, 2012.

Correction of Non-Regulatory Text

In the Federal Register of December 13, 2011, AD 2011-26-02; Amendment 39-16892 is corrected as follows:

On page 77378, in the second column, on line 3 under 14 CFR Part 39, change AD 2011-26-02 to AD 2010-19-06R1.

Correction of Regulatory Text

§ 39.13 [Corrected]

In the Federal Register of December 13, 2011, on page 77379, in the second column, lines 6 and 7 under § 39.13 [Amended] of AD 2011-26-02, are corrected to read as follows:

* * * * *

AD 2010-19-06R1 Turbomeca: Amendment 39-16892; Docket No. FAA-2010-0710;

* * * * *

Issued in Burlington, Massachusetts, on December 29, 2011.
Peter A. White,
Manager, Engine & Propeller Directorate, Aircraft Certification Service.

[FR Doc. 2012-79 Filed 1-6-12; 8:45 am]

BILLING CODE 4910-13-P